DEPARTMENT OF STATE

[Public Notice 8882]

Shipping Coordinating Committee; Notice of Committee Meeting

The Shipping Coordinating Committee (SHC) will conduct an open meeting at 9:30 a.m. on Wednesday, November 12, 2014, in Coast Guard Headquarters, Room 6i10-01-c, Washington, DC. The primary purpose of the meeting is to prepare for the ninety-fourth Session of the International Maritime Organization's (IMO) Maritime Safety Committee to be held at the IMO Headquarters, United Kingdom, November 17-21, 2014.

The agenda items to be considered include:

• Adoption of the agenda; report on credentials

• Decisions of other IMO bodies

• Consideration and adoption of amendments to mandatory instruments

• Measures to enhance maritime security

• Goal-based new ship construction standards

• Passenger ship safety

• Human element, training and watch keeping (report of the first session of the Sub-Committee)

• Ship systems and equipment (report of the first session of the Sub-Committee)

• Navigation, communications, search and rescue (report of the first session of the Sub-Committee)

• Implementation of IMO instruments (report of the first session of the Sub-Committee)

• Carriage of cargoes and containers (urgent matters emanating from the first session of the Sub-Committee)

• Capacity building for the implementation of new measures

• Formal safety assessment, including general cargo ship safety

• Piracy and armed robbery against ships

• Implementation of instruments and related matters

• Relations with other organizations

• Review and reform of the Organization, including application of the Committee's Guidelines

• Work programme

• Election of Chairman and Vice-Chairman for 2015

• Any other business

Members of the public may attend this meeting up to the seating capacity of the room. Upon request, members of the public may also participate via teleconference, up to the capacity of the teleconference phone line. The access number for this teleconference line will be posted online at http://www.uscg.mil/imo/msc/default.asp at least 2 working days in advance. Physical access to the meeting, or participation via the teleconference line, requires that all attendees respond to the meeting coordinator not later than October 29, 2014, 10 working days prior to the meeting. The meeting coordinator, LCDR Matthew Frazee, may be contacted by email at matthew.p.frazee@uscg.mil or by phone at (202) 372-1376. Responses made after October 29, 2014 might result in not being able to participate in the meeting.

Please note that due to security considerations, two valid, government issued photo identifications must be presented to gain entrance to the Coast Guard Headquarters building. The Coast Guard Headquarters building is accessible by public transportation or taxi. Additional information regarding this and other IMO SHC public meetings may be found at: www.uscg.mil/imo.

In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: September 19, 2014.
Marc Zlomek,
Executive Secretary, Shipping Coordinating Committee, Department of State.

[FR Doc. 2014-22999 Filed 9-25-14; 8:45 am]

BILLING CODE 4710-09-P